DEPARTMENT OF ENERGY

Federal Energy Regulatory Commission

Combined Notice of Filings #1

Take notice that the Commission received the following electric rate filings:

Docket Numbers: ER13-102-010.

Applicants: New York Independent System Operator, Inc.

Description: Compliance filing: NYISO errata correcting compliance filing to be effective 4/1/2016.

Filed Date: 5/24/16.

Accession Number: 20160524-5195.

Comments Due: 5 p.m. ET 6/14/16.

Docket Numbers: ER16-1775-000.

Applicants: Imperial Valley Solar Company (IVSC) 2, LLC.

Description: Compliance filing: Comp. Filing—Amendment to MBR Tariff to Category 1 Seller to be effective 5/25/2016.

Filed Date: 5/24/16.

Accession Number: 20160524-5192.

Comments Due: 5 p.m. ET 6/14/16.

Docket Numbers: ER16-1776-000.

Applicants: Maricopa West Solar PV, LLC.

Description: Compliance filing: Comp. Filing—Amendment to MBR Tariff to Category 1 Seller to be effective 5/25/2016.

Filed Date: 5/24/16.

Accession Number: 20160524-5196.

Comments Due: 5 p.m. ET 6/14/16.

Docket Numbers: ER16-1777-000.

Applicants: San Diego Gas & Electric.

Description: Fifth Annual Informational Filing [Cycle 5] of Fourth Transmission Owner Rate Formula rate mechanism of San Diego Gas & Electric Company.

Filed Date: 5/24/16.

Accession Number: 20160524-5223.

Comments Due: 5 p.m. ET 6/14/16.

Docket Numbers: ER16-1778-000.

Applicants: NorthWestern Corporation.

Description: Initial rate filing: SA 777—Agreement to Provide Services with Western Energy Company to be effective 5/26/2016.

Filed Date: 5/25/16.

Accession Number: 20160525-5031.

Comments Due: 5 p.m. ET 6/15/16.

Docket Numbers: ER16-1779-000.

Applicants: Southwest Power Pool, Inc.

Description: § 205(d) Rate Filing: 3198 KCP&L GMO and City of Gilman City, MO Inter. Agr. to be effective 5/23/2016.

Filed Date: 5/25/16.

Accession Number: 20160525-5041.

Comments Due: 5 p.m. ET 6/15/16.

Docket Numbers: ER16-1780-000.

Applicants: Southwest Power Pool, Inc.

Description: § 205(d) Rate Filing: 3199 KCP&L GMO and City of Liberal, MO Interconnection Agr to be effective 5/23/2016.

Filed Date: 5/25/16.

Accession Number: 20160525-5063.

Comments Due: 5 p.m. ET 6/15/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 25, 2016.
Nathaniel J. Davis, Sr.,
Deputy Secretary.

[FR Doc. 2016-12844 Filed 5-31-16; 8:45 am]

BILLING CODE 6717-01-P